DEPARTMENT OF ENERGY

Federal Energy Regulatory Commission

[Docket No. EL04-89-000, et al.]

Salmon River Electric Cooperative, Inc., et al.; Electric Rate and Corporate Filings

The following filings have been made with the Commission. The filings are listed in ascending order within each docket classification.

1. Salmon River Electric Cooperative, Inc.

[Docket Nos. EL04-89-000 and TS04-254-000]

March 15, 2004.

Take notice that on March 9, 2004, Salmon River Electric Cooperative, Inc. (Salmon River) filed a request for waiver of the requirements of Order No. 888, Order No. 889, Order No. 2003, and Order No. 2004 pursuant to 18 CFR 35.28(d) and (f) and 358.1(d) and of the Commission's regulations. Salmon River also requests waiver of 18 CFR 35.28(d)(ii) and 35.28(f)(3)(ii)'s 60-day notice requirement. Salmon River states that their filings are available for public inspection at its offices in Challis, Idaho.

Comment Date: March 30, 2004.

2. Sempra Energy Trading Corp.

[Docket Nos. ER03-1413-003 and ER94-1691-028]

March 15, 2004.

Take notice that on March 9, 2004, Sempra Energy Trading Corp. (SET) tendered for filing an amendment to SET's market-based rate tariff to include the market behavior rules adopted by the Commission in its order amending market-based rate tariff's and authorizations, Investigation of Terms and Conditions of Public Utility Market-Based Rate Authorizations, 105 FERC ¶ 61,218 (2003), reh'g pending.

Comment Date: March 30, 2004.

3. Sierra Pacific Power Company

[Docket No. ER04-362-001]

March 8, 2004.

Take notice that on March 3, 2004, Sierra Pacific Power Company (Sierra) tendered for filing revisions to the Amended and Restated Operating Agreement No. 2 between Sierra and Mt. Wheeler Power, Inc., designated as Supplement No. 2 to Rate Schedule FERC No. 33. Sierra states that the proposed revisions consist of additional language to permit Sierra to interconnect a wind project generator to Mt. Wheeler's Gondor 230kV substation bus. Sierra has requested that the Commission accept the amendment and permit service in accordance therewith effective November 1, 2003.

Comment Date: March 24, 2004.

4. Southern California Edison Company

[Docket No. ER04-625-000]

March 15, 2004.

Take notice that on March 9, 2004, Southern California Edison Company (SCE) tendered for filing a Letter Agreement between SCE and the Blythe Energy, LLC (Blythe Energy). SCE states that the purpose of the Letter Agreement is to provide an interim arrangement pursuant to which SCE will commence the required biological and cultural studies and certain other tasks required to prepare an application for a Certificate of Public Convenience and Necessity from the California Public Utilities Commission in anticipation of constructing, at Blythe Energy's request, a 230 kV transmission line from Western Area Power Administration's Buck Blvd. Substation to SCE's 230kV substation facilities at Metropolitan Water District's Julian Hinds Pumping Plant Substation.

SCE states that copies of this filing were served upon the Public Utilities Commission of the State of California and Blythe Energy.

Comment Date: March 30, 2004.

5.Milford Power Company, LLC

[Docket No. ER04-628-000]

March 15, 2004.

Take notice that on March 9, 2004, Milford Power Company, LLC (Milford Power) tendered for filing an amendment to its market based rate tariff to provide for sales of ancillary services, reassignment of transmission capacity and resales of firm transmission rights. Milford Power requests waiver of the notice requirements of 18 CFR 5.3 to permit an effective date of March 10, 2004.

Comment Date: March 30, 2004.

6. Soyland Power Cooperative, Inc.

[Docket No. ER04-629-000]

March 15, 2004.

Take notice that on March 9, 2004, Soyland Power Cooperative, Inc. (Soyland) tendered for filing with the Commission proposed changes to its Rate Schedule A, designated as Supplement No. 2 to its Rate Schedules. Soyland requests an effective date of January 1, 2004, for the proposed change to its Rate Schedule A. Soyland also requests a waiver of the Commission's regulations. Soyland states that Rate Schedule A is the formulary rate under which Soyland recovers the costs associated with its service to its Members pursuant to the Wholesale Power Contract that Soyland has with each Member.

Comment Date: March 30, 2004.

7. Salmon River Electric Cooperative, Inc.

[Docket No. ER04-630-000]

March 15, 2004.

Take notice that on March 9, 2004, Salmon River Electric Cooperative, Inc. (Salmon River) filed with the Commission, pursuant to section 205 of the Federal Power Act, 16 U.S.C. 824d, and part 35 of the Commission's regulations, 18 CFR Part 35, (1) Pole Replacement and Back-up Agreement between Salmon River and Bonneville Power Administration Transmission Business Line designated as Rate Schedule FERC No. 1; (2) Joint Use Agreement between Salmon River and Lost River Electric Cooperative designated as Rate Schedule FERC No. 2; (3) Maintenance and Back-up Agreement between Salmon River and Bonneville Power Administration designated as Rate Schedule FERC No. 3; (4) two Electric Service Agreements for Transmission Services between Salmon River and Lois von Morganroth designated as Rate Schedules FERC Nos. 4 and 5; and (5) Operation and Maintenance Agreement between Salmon River and Cyprus Thompson Creek Mining Company designated as Rate Schedule FERC No. 6. Salmon River requests that the Commission grant all waivers necessary to allow the rate schedules to have effective dates retroactive to the effective date of the service agreement or to the date Salmon River became subject to the Commission's jurisdiction, as applicable. Salmon River states that its filing is available for public inspection at its offices in Challis, Idaho.

Salmon River states that a copy of the filing was served upon Salmon River's customers subject to the Rate Schedules and the Idaho Public Utilities Commission.

Comment Date: March 30, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-643 Filed 3-22-04; 8:45 am]

BILLING CODE 6717-01-P